ENVIRONMENTAL PROTECTION AGENCY

[EPA-HQ-OPP-2010-0029; FRL-8809-2]

Beauveria Bassiana Strain GHA; Notice of Receipt of a Request for an Amendment to Delete a Use in a Pesticide Registration

AGENCY: Environmental Protection Agency (EPA).

ACTION: Notice.

SUMMARY: In accordance with section 6(f)(1) of the Federal Insecticide, Fungicide, and Rodenticide Act (FIFRA), as amended, EPA is issuing a notice of receipt of a request for an amendment by a registrant to delete a use in a pesticide registration. Section 6(f)(1) of FIFRA provides that a registrant of a pesticide product may at any time request that any of its pesticide registrations be amended to delete one or more uses. FIFRA further provides that, before acting on the request, EPA must publish a notice of receipt of any request in the Federal Register.

DATES: The deletion is effective,July 28, 2010 unless the Agency receives a written withdrawal request on or before July 28, 2010. The Agency will consider a withdrawal request postmarked no later than July 28, 2010.

Users of this product who desire continued use on the crop being deleted should contact the applicable registrant on or before July 28, 2010.

ADDRESSES: Submit your withdrawal request, identified by docket identification (ID) number EPA-HQ-OPP-2010-0029, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

FOR FURTHER INFORMATION CONTACT: Jeannine Kausch, Biopesticides and Pollution Prevention Division (7511P), Office of Pesticide Programs, Environmental Protection Agency, 1200 Pennsylvania Ave., NW., Washington, DC 20460-0001; telephone number: (703) 347-8920; e-mail address: kausch.jeannine@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

EPA has established a docket for this action under docket ID number EPA-HQ-OPP-2010-0029. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces receipt by the Agency of an application from a registrant to delete a use in a pesticide registration. This registration is listed in Table 1 of this unit by registration number, product name, active ingredient, and specific use deleted:

Table 1.—Request for an Amendment to Delete a Use in a Pesticide Registration
EPA Registration No. | Product Name | Active Ingredient | Delete from Label
82074-1 | Mycotrol® ES | Beauveria bassiana Strain GHA | Tomato

Users of this product who desire continued use on the crop being deleted should contact the applicable registrant before July 28, 2010 to discuss withdrawal of the application for amendment. This 180-day period will also permit interested members of the public to intercede with the registrant prior to the Agency's approval of the deletion.

Table 2 of this unit includes the name and address of record for the registrant of the product listed in Table 1 of this unit.

Table 2.—Registrant Requesting an Amendment to Delete a Use in a Pesticide Registration
EPA Company Number | Company Name and Address
82074 | Laverlam International Corporation, 117 South Parkmont, Butte, MT 59701

III. What is the Agency's Authority for Taking this Action?

Section 6(f)(1) of FIFRA provides that a registrant of a pesticide product may at any time request that any of its pesticide registrations be amended to delete one or more uses. FIFRA further provides that, before acting on the request, EPA must publish a notice of receipt of any such request in the Federal Register. Thereafter, the Administrator may approve such a request.

IV. Procedures for Withdrawal of Request

Registrants who choose to withdraw a request for use deletion must submit the withdrawal in writing to Jeannine Kausch using the methods in ADDRESSES. The Agency will consider written withdrawal requests postmarked no later than July 28, 2010.

V. Provisions for Disposition of Existing Stocks

The Agency has authorized the registrant to sell or distribute the product under the previously approved labeling for a period of 18 months after approval of the revision, unless other restrictions have been imposed, as in special review actions.

List of Subjects

Environmental protection, Pesticides and pests.

Dated: January 21, 2010.
Keith Matthews,
Acting Director, Biopesticides and Pollution Prevention Division, Office of Pesticide Programs.

[FR Doc. 2010-1940 Filed 1-28-10; 8:45 am]

BILLING CODE 6560-50-S